DEPARTMENT OF THE INTERIOR

Fish and Wildlife Service

50 CFR Part 17

[Docket No. FWS-R2-ES-2012-0035; 4500030113]

RIN 1018-AY22

Endangered and Threatened Wildlife and Plants; 6-Month Extension of Final Determination for the Listing of the Georgetown Salamander and Salado Salamander

AGENCY: Fish and Wildlife Service, Interior.

ACTION: Proposed rule; reopening of comment period.

SUMMARY: We, the U.S. Fish and Wildlife Service (Service), announce a 6-month extension of the final determination of whether to list the Georgetown salamander (Eurycea naufragia) and Salado salamander (Eurycea chisholmensis) as endangered or threatened species, and we reopen the comment period on the proposed rule to list these species. We are taking this action based on our finding that there is substantial disagreement regarding the sufficiency or accuracy of the available data relevant to our determination regarding the proposed listing rule, making it necessary to solicit additional information by reopening the comment period for 30 days.

DATES: The comment period for the proposed rule published August 22, 2012, at 77 FR 50768, is reopened. We will consider all comments received or postmarked on or before September 19, 2013. If you comment using the Federal eRulemaking Portal (see ADDRESSES), you must submit your comment by 11:59 p.m. Eastern Time on the closing date.

ADDRESSES: You may submit written comments by one of the following methods:

(1) Electronically: Go to the Federal eRulemaking Portal: http://www.regulations.gov. In the Search box, enter FWS-R2-ES-2012-0035, which is the docket number for the proposed listing rule. Then, in the Search panel on the left side of the screen, under the Document Type heading, check on the Proposed Rules link to locate this document. You may submit a comment by clicking on “Comment Now!”

(2) By hard copy: Submit by U.S. mail or hand-delivery to: Public Comments Processing, Attn: FWS-R2-ES-2012-0035; Division of Policy and Directives Management; U.S. Fish and Wildlife Service; 4401 N Fairfax Drive, MS 2042-PDM; Arlington, VA 22203.

We request that you send comments only by the methods described above. We will post all comments on http://www.regulations.gov. This generally means that we will post any personal information you provide us (see the Public Comments section below for more information).

FOR FURTHER INFORMATION CONTACT: Adam Zerrenner, Field Supervisor, U.S. Fish and Wildlife Service, Austin Ecological Services Field Office, 10711 Burnet Rd, Suite 200, Austin, TX 78758; by telephone 512-490-0057; or by facsimile 512-490-0974. Persons who use a telecommunications device for the deaf (TDD) may call the Federal Information Relay Service (FIRS) at 800-877-8339.

SUPPLEMENTARY INFORMATION:

Background

On August 22, 2012, we published in the Federal Register a proposed rule (77 FR 50768) to list the Austin blind salamander (Eurycea waterlooensis), Georgetown salamander (Eurycea naufragia), Jollyville Plateau salamander (Eurycea tonkawae), and Salado salamander (Eurycea chisholmensis) as endangered under the Endangered Species Act of 1973, as amended (Act) (16 U.S.C. 1531 et seq.). For a description of previous Federal actions concerning these salamanders, please refer to the proposed rule. That proposal had a 60-day comment period, ending October 22, 2012. We held a public meeting and hearing in Round Rock, Texas, on September 5, 2012, and a second public meeting and hearing in Austin, Texas, on September 6, 2012. On January 25, 2013, we reopened the public comment period on the August 22, 2012, proposed listing and critical habitat designation; announced the availability of a draft economic analysis; and published an amended required determinations section of the proposal (78 FR 5385).

Section 4(b)(6) of the Act and its implementing regulation, 50 CFR 424.17(a), requires that we take one of three actions within 1 year of a proposed listing: (1) Finalize the proposed listing; (2) withdraw the proposed listing; or (3) extend the final determination by not more than 6 months, if there is substantial disagreement among scientists knowledgeable about the species regarding the sufficiency or accuracy of the available data relevant to the determination, for the purposes of soliciting additional data.

Since the publication of the proposed rule for the Georgetown and Salado salamanders, there has been substantial disagreement regarding: (1) The short- and long-term population trends of these two species; (2) the interpretation of water quality and quantity degradation information as it relates to the status of these two species; and (3) the effectiveness of conservation practices and regulatory mechanisms. This has led to significant disagreement regarding the current conservation status of the Georgetown and Salado salamanders.

Therefore, in consideration of the disagreements surrounding the status of the Georgetown and Salado salamanders, we are extending the final listing determination for 6 months in order to solicit information that will help to clarify these issues. Consequently, our final determination on the critical habitat designation for the Georgetown and Salado salamanders will be delayed until we make a final listing determination for these species. Elsewhere in today's Federal Register, we published final listing and critical habitat determinations for the Austin blind and Jollyville Plateau salamanders.

Public Comments

We will accept written comments and information during this reopened comment period on our proposed listing for the Georgetown and Salado salamanders that was published in the Federal Register on August 22, 2012 (77 FR 50768). We will consider information and recommendations from all interested parties. We intend that any final action resulting from the proposals be as accurate as possible and based on the best available scientific and commercial data.

In consideration of the disagreements surrounding the data used to support the proposed rulemaking, we are extending the final determination for 6 months in order to solicit information that will help to clarify these issues. We are particularly interested in new information and comments regarding:

(1) Survey information and population estimates of the Georgetown and Salado salamanders.

(2) Data on water quality and quantity as it relates to the status of these two species.

(3) Effectiveness of conservation practices; we particularly request comments or information to help us assess the certainty that rangewide conservation efforts will be effective in conserving the Georgetown and Salado salamanders.

(4) Information on existing regulatory mechanisms that may provide protection to the Georgetown and Salado salamanders and their habitats.

If you previously submitted comments or information on the proposed listing rule, please do not resubmit them. We have incorporated them into the public record, and we will fully consider them in the preparation of our final determination. Our final determination concerning this proposed listing will take into consideration all written comments and any additional information we receive.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R2-ES-2012-0035, or by appointment, during normal business hours, at the U.S. Fish and Wildlife Service, Austin Ecological Services Field Office (see FOR FURTHER INFORMATION CONTACT). You may obtain copies of the proposed rule on the Internet at http://www.regulations.gov at Docket No. FWS-R2-ES-2012-0035, or by mail from the Austin Ecological Services Field Office (see FOR FURTHER INFORMATION CONTACT).

Authority

The authority for this action is the Endangered Species Act of 1973, as amended (16 U.S.C. 1531 et seq.).

Dated: August 5, 2013.
Dan Ashe,
Director, U.S. Fish and Wildlife Service.

[FR Doc. 2013-19705 Filed 8-19-13; 8:45 am]

BILLING CODE 4310-55-P